DEPARTMENT OF THE INTERIOR

Fish and Wildlife Service

[FWS-R9-IA-2012-N141; FXIA16710900000P5-123-FF09A30000]

Endangered Species; Issuance of Permits

AGENCY: Fish and Wildlife Service, Interior.

ACTION: Notice of issuance of permits.

SUMMARY: We, the U.S. Fish and Wildlife Service (Service), have issued the following permits to conduct certain activities with endangered species. We issue these permits under the Endangered Species Act (ESA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, we issued requested permits subject to certain conditions set forth therein. For each permit for an endangered species, we found that (1) The application was filed in good faith, (2) The granted permit would not operate to the disadvantage of the endangered species, and (3) The granted permit would be consistent with the purposes and policy set forth in section 2 of the ESA.

Permit No. | Applicant | Receipt of application Federal Register notice | Permit issuance date
33348A | Jerry Brenner | 76 FR 7580; February 10, 2011 | April 10, 2012.
56284A | Michael Rush | 76 FR 65207; October 20, 2011 | March 26, 2012.
60276A | Hatada Enterprises, Inc. | 77 FR 298; January 4, 2012 | April 27, 2012.
63288A | Eudora Farms LLC | 77 FR 3493; January 24, 2012 | April 11, 2012.
52774A | Michael Moore | 77 FR 6139; February 7, 2012 | March 29, 2012.
57926A | Zoological Society of San Diego | 77 FR 6139; February 7, 2012 | May 24, 2012.
680321 | John Ball Zoological Garden | 77 FR 6816; February 9, 2012 | April 11, 2012.
781629 | Zoo Boise | 77 FR 6816; February 9, 2012 | April 11, 2012.
678366 | Phoenix Zoo | 77 FR 6816; February 9, 2012 | April 11, 2012.
60391A | Hatada Enterprises, Inc. | 77 FR 6816; February 9, 2012 | April 27, 2012.
117181 | Mountain Gorilla Veterinary Project | 77 FR 12870; March 2, 2012 | May 4, 2012.
179119 | H. Yturria Land and Cattle Co. | 77 FR 14035; March 8, 2012 | April 11, 2012.
061184 | Donald Henderson | 77 FR 14035; March 8, 2012 | April 11, 2012.
179117 | H. Yturria Land and Cattle Co. | 77 FR 14035; March 8, 2012 | April 11, 2012.
46687A | Morani River Ranch | 77 FR 14035; March 8, 2012 | April 11, 2012.
49112A | Morani River Ranch | 77 FR 14035; March 8, 2012 | April 11, 2012.
672849 | Priour Brothers Ranch | 77 FR 14035; March 8, 2012 | April 11, 2012.
707102 | Priour Brothers Ranch | 77 FR 14035; March 8, 2012 | April 11, 2012.
042637 | Michael Soupios | 77 FR 14035; March 8, 2012 | April 11, 2012.
66322A | John Lattimore | 77 FR 14035; March 8, 2012 | April 25, 2012.
56216A | Columbus Zoo & Aquarium | 77 FR 15383; March 15, 2012 | May 18, 2012.
65755A | C.H. Guenther & Son Inc. | 77 FR 15383; March 15, 2012 | April 16, 2012.
67110A | C.H. Guenther & Son Inc. | 77 FR 15383; March 15, 2012 | April 16, 2012.
65098A | Kristi Crosby | 77 FR 15383; March 15, 2012 | April 16, 2012.
65763A | Petty Group, LLP | 77 FR 15383; March 15, 2012 | April 16, 2012.
65764A | Petty Group, LLP | 77 FR 15383; March 15, 2012 | April 16, 2012.
66048A | Y. O. Ranch | 77 FR 15383; March 15, 2012 | April 16, 2012.
66049A | Y. O. Ranch | 77 FR 15383; March 15, 2012 | April 16, 2012.
66071A | 5F Ranch | 77 FR 15383; March 15, 2012 | April 17, 2012.
66631A | Cotton Mesa Trophy Whitetail | 77 FR 15383; March 15, 2012 | April 17, 2012.
66632A | Cotton Mesa Trophy Whitetail | 77 FR 15383; March 15, 2012 | April 17, 2012.
66630A | Forest Land LLC | 77 FR 15383; March 15, 2012 | April 17, 2012.
67060A | Harkey Ranch | 77 FR 15383; March 15, 2012 | April 17, 2012.
65707A | Madera Bonita Ranch | 77 FR 15383; March 15, 2012 | April 17, 2012.
67100A | Madera Bonita Ranch | 77 FR 15383; March 15, 2012 | April 17, 2012.
66309A | Prater-Pirkle Land Co. | 77 FR 15383; March 15, 2012 | April 17, 2012.
66626A | Prater-Pirkle Land Co. | 77 FR 15383; March 15, 2012 | April 17, 2012.
66229A | Britt Rice | 77 FR 15383; March 15, 2012 | April 17, 2012.
667921 | Riverbanks Zoological Park | 77 FR 15383; March 15, 2012 | April 17, 2012.
66306A | Wildwood Wildlife Park | 77 FR 15383; March 15, 2012 | April 17, 2012.
67291A | Jimmy Asaff | 77 FR 15383; March 15, 2012 | April 18, 2012.
67292A | Jimmy Asaff | 77 FR 15383; March 15, 2012 | April 18, 2012.
67458A | Circle S Ranch, LLC | 77 FR 15383; March 15, 2012 | April 18, 2012.
67459A | Circle S Ranch, LLC | 77 FR 15383; March 15, 2012 | April 18, 2012.
65362A | Christopher Karcher | 77 FR 15383; March 15, 2012 | April 18, 2012.
67448A | Lucky Penny Ranch | 77 FR 15383; March 15, 2012 | April 18, 2012.
67449A | Lucky Penny Ranch | 77 FR 15383; March 15, 2012 | April 18, 2012.
67061A | Mayfield Ranch | 77 FR 15383; March 15, 2012 | April 18, 2012.
67162A | Mayfield Ranch | 77 FR 15383; March 15, 2012 | April 18, 2012.
199071 | Oakland Zoo | 77 FR 15383; March 15, 2012 | April 18, 2012.
67421A | Safeguard Investments LTD | 77 FR 15383; March 15, 2012 | April 18, 2012.
691733 | Santa Ana Zoo | 77 FR 15383; March 15, 2012 | April 18, 2012.
785931 | Wayne Hahn | 77 FR 17494; March 26, 2012 | April 27, 2012.
195823 | Jack Phillips | 77 FR 17494; March 26, 2012 | April 27, 2012.
67438A | Jack Phillips | 77 FR 17494; March 26, 2012 | April 27, 2012.
68172A | James Young | 77 FR 17494; March 26, 2012 | April 25, 2012.
66557A | David Howerton | 77 FR 19312; March 30, 2012 | May 23, 2012.
70057A | John Mikkelson | 77 FR 20838; April 6, 2012 | May 15, 2012.
69571A | Lee Anderson | 77 FR 20838; April 6, 2012 | May 15, 2012.
71492A | Billy Hablinski | 77 FR 22604; April 16, 2012 | May 21, 2012.
47905A | Jon Holman | 77 FR 22604; April 16, 2012 | May 21, 2012.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2012-13924 Filed 6-7-12; 8:45 am]

BILLING CODE 4310-55-P